DEPARTMENT OF TRANSPORTATION

Federal Highway Administration

Federal Transit Administration

Environmental Impact Statement: Denver, Broomfield, Adams, Jefferson and Boulder Counties, CO

AGENCY: Federal Highway Administration (FHWA) and Federal Transit Administration (FTA), U.S. Department of Transportation (DOT).

ACTION: Notice of intent to prepare an Environmental Impact Statement.

SUMMARY: The FHWA and FTA are issuing this notice to advise the public that an Environmental Impact Statement and a Section 4(f) Evaluation (EIS/4(f)) will be prepared for transportation improvements in the City and County of Denver, City and County of Broomfield, Adams County, Jefferson County, Boulder County, the City of Westminster, City of Broomfield, Town of Superior, City of Louisville, and the City of Boulder, Colorado. Improvements will be considered generally between Boulder and Downtown Denver along the US 36 highway alignment, the Burlington Northern and Santa Fe (BNSF) rail line, SH 157 in Boulder and the area around the northern entry of SH 119 northeast of Boulder. The relationships of concurrent projects such as the Northwest Corridor EIS, the North I-25 EIS, the US36/US287 Interchange Environmental Assessment and the Denver Union Station Intermodal Master Plan EIS will also be considered.

The purpose of this notice is to notify interested individuals, organizations, and business entities, affected Native American Tribes, and Federal, State, and local governmental agencies of the intent to prepare an EIS/4(f) and to invite participation in the study. Transportation improvements are needed to meet current and future travel demands and to upgrade the transportation facilities in the corridor consistent with current standards and procedures.

DATES: Written comments on the scope of alternatives and impacts to be considered must be submitted by December 5, 2003 to Marion McCleary, Project Administrator, at the address below.

Project Scoping will be accomplished through coordination with affected parties, stakeholders, organizations, Federal, State, and local agencies; agency Scoping meetings; and through community outreach and public meetings in the project corridor. Meetings will be conducted as follows:

Agency and Public Scoping Meeting, Thursday, October 30, 2003; 7:30 a.m. to 9:30 a.m., Optional Corridor Tour: 9:30 a.m to 11:30 a.m., 4 Garden Center, Lower Level Conference Room, Broomfield, CO 80020.

Public Scoping Meetings, Wednesday, November 12, 2003, 4:30 p.m to 7:30 p.m., Boulder Public Library Auditorium, 1000 Canyon Boulevard, Boulder, Colorado.

Thursday, November 13, 2003, 4:30 p.m. to 7:30 p.m., Front Range Community College, Rocky Mountain Room, 3645 West 112th Avenue, Westminster, Colorado

Information on the time and place of the public Scoping meetings will be provided in the local newspapers and other media outlets.

ADDRESSES: Written comments on the scope of alternatives and impacts to be considered should be sent to: Marion McCleary, Project Administrator, US 36 Mobility Partnership, c/o URS Corporation, 1225 17th Street, Suite 200, Denver, CO 80202, 303-293-8080, Fax: 303-293-2110, E-mail: marion_mccleary@urscorp.com.

FOR FURTHER INFORMATION CONTACT: • Shaun Cutting, Senior Operations Engineer, FHWA, Colorado Division, 555 Zang Street, Room 250, Lakewood, CO 80228, Telephone: (303) 969-6730 extension 369.

• Dave Beckhouse, Community Planner, FTA, 216 16th Street, Suite 650, Denver, CO, 80202, Telephone: (303) 844-4266.

• Jeff Wassenaar, Colorado Department of Transportation, Region 6, 3401 Quebec Street, Suite 800, Denver, CO, 80207, Telephone: (303) 370-2052 extension 219.

• Scott Weeks, Regional Transportation District, 1600 Blake Street, Denver, CO, 80202, Telephone: (303) 299-2221.

To ensure that a full range of issues related to the proposed action are addressed and all significant issues identified, comments and suggestions are invited from all interested parties. Comments or questions concerning this proposed action and the EIS/4(f) should be directed to Shaun Cutting or Dave Beckhouse at the addresses previously provided.

To be placed on the public mailing list to receive additional project information, contact Marion McCleary at the address previously provided.

SUPPLEMENTARY INFORMATION:

I. Scoping of Project

The FHWA and FTA in cooperation with the Colorado Department of Transportation (CDOT) and the Regional Transportation District (RTD) will prepare an Environmental Impact Statement and Section 4(f) Evaluation (EIS/4(f)) for transportation improvements on the US 36 Corridor (the Corridor) between Boulder and the Interstate 25 (I-25)/US 36 Interchange and a transit connection between Denver Union Station and Boulder.

The EIS/4(f) will evaluate improvement alternatives and the No-Action alternative based on the Purpose and Need developed for the corridor. Alternatives will be developed through an extensive agency and community outreach process. A full range of potential alignments and corridors will be considered for both highway and transit alternatives. The US 36 Corridor EIS/4(f) evaluation will result in a decision about which transportation projects, if any, will be built to improve safety and address congestion in the Corridor.

II. Description of Study Area and Project Need

The study area for the EIS/4(f) is generally along the alignments of US 36 from I-25 to Boulder, SH 157/Foothills Parkway from US 36 to SH 119, and along the BNSF Railroad line from downtown Denver to Boulder. The purpose of the proposed action is to decrease congestion, and improve safety, access, and mobility. Original construction of US 36 was initiated in 1951 and completed as a four-lane toll road. The cross section is still four lanes throughout most of the highway length today. During the same period, population and employment growth in the areas of the corridor have substantially increased travel demands for longer length trips.

III. Alternatives To Be Considered

The alternatives evaluated in the Draft EIS (DEIS) will include, but not be limited to, the alternatives developed in the previously completed US 36 Major Investment Study (MIS), June 2001. These alternatives consisted of Regional Rail on the BNSF alignment (also called Commuter Rail), Bus Rapid Transit (BRT) within the US 36 highway, High Occupancy Vehicle Lanes (HOV) on US 36, Roadway Widening on US 36 and possibly cross streets, Bikeway, Travel Demand Management (TDM), and Intelligent Transportation System (ITS) improvements and transportation management elements in a roughly 25-mile-long corridor, parallel to and including US 36, between downtown Denver and Boulder. The EIS/4(f) will evaluate the use and effects of toll and other user fee methods of finance on the alternatives and the expected travel demand response from such options.

The EIS/4(f) will also evaluate the appropriate end of line and associated facilities and connections into Downtown Denver to Union Station and in Boulder. As part of the transit evaluations, station locations will be studied and identified as appropriate.

The EIS/4(f) will also fully evaluate the No-Action Alternative as a basis of comparison among all alternatives. Other alternatives may be added as a result of scoping and agency coordination efforts.

IV. Probable Effects/Potential Impacts for Analysis

The EIS/4(f) will analyze social, economic, and environmental impacts of the various alternatives. Other major issues to be evaluated include air quality, noise, aesthetics, community cohesion impacts, and possible disruption of neighborhoods, businesses and commercial activities. The subjects and level of detail addressed in the EIS/4(f) will be consistent with the requirements of the joint FTA/FHWA environmental regulations (23 CFR part 771) and the Council on Environmental Quality regulations (40 CFR parts 1500-1508). Among other factors, the EIS/4(f) will evaluate the following:

• Transportation service including future corridor capacity

• Transit ridership and costs

• Traffic movements and changes and associated impacts to local facilities

• Community impacts such as land use, displacements, noise, neighborhood compatibility and aesthetics

• Resource impacts including impacts to historic and archeological resources, cultural resource impacts, natural resource impacts including air quality, wetlands, water quality and wildlife

The proposed impact assessment and evaluation will take into account both positive and negative impacts, direct and indirect impacts, short-term (during the construction period) and long term impacts, and site-specific as well as corridor wide impacts. Mitigation measures will be identified for any adverse environmental impacts that are identified.

Issued on: October 14, 2003.
William C. Jones,
Division Administrator, Colorado Division, Federal Highway Administration, Lakewood, Colorado.
Lee O. Waddleton,
Regional Administrator, Federal Transit Administration, Denver, Colorado.

[FR Doc. 03-26510 Filed 10-20-03; 8:45 am]

BILLING CODE 4910-57-P